DEPARTMENT OF LABOR

Employment and Training Administration

[TA-W-62,983]

Citation Corporation, Currently Known as Compass Automotive Group, Grand Rapids Division, Lowell, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on April 17, 2008, applicable to workers of Citation Corporation, Grand Rapids Division, Lowell, Michigan. The notice was published in the Federal Register on May 2, 2008 (73 FR 24317).

At the request of the State agency, the Department reviewed the certification for workers of the subject firm. The workers are engaged in the production of precision machined aluminum castings for engine and transmission components.

New information shows that due to a change in ownership in March 2009, Citation Corporation is currently known as Compass Automotive Group.

The intent of the Department's certification is to include all workers at the subject firm who were adversely affected due to increased customer imports.

Accordingly, the Department is amending this certification to include workers of the subject firm whose Unemployment Insurance (UI) wages are reported under the successor firm, Compass Automotive Group.

The amended notice applicable to TA-W-62,983 is hereby issued as follows:

“All workers of Citation Corporation, currently known as Compass Automotive Group, Grand Rapids Division, Lowell, Michigan, who became totally or partially separated from employment on or after February 28, 2007, through April 17, 2010, are eligible to apply for adjustment assistance under Section 223 of the Trade Act of 1974, and are also eligible to apply for alternative trade adjustment assistance under Section 246 of the Trade Act of 1974.”

Signed at Washington, DC, this 6th day of April 2009.
Elliott S. Kushner,
Certifying Officer, Division of Trade Adjustment Assistance.

[FR Doc. E9-8693 Filed 4-15-09; 8:45 am]

BILLING CODE 4510-FN-P